OFFICE OF MANAGEMENT AND BUDGET

5 CFR Chapter III

48 CFR Chapter 1

Federal Regulations; OMB Circulars, OFPP Policy Letters, and CASB Cost Accounting Standards Included in the Semiannual Agenda of Federal Activities; Withdrawal

AGENCY: Office of Management and Budget.

ACTION: Withdrawal.

SUMMARY: The Office of Management and Budget (OMB) is announcing the withdrawal of its semiannual agenda of upcoming activities for Federal regulations, OMB Circulars, Office of Federal Procurement Policy (OFPP) Policy Letters, and Cost Accounting Standards Board (CASB) Cost Accounting Standards.

DATES: The withdrawal is effective October 14, 2011.

FOR FURTHER INFORMATION CONTACT: See agency person listed for each entry in the agenda, c/o Office of Management and Budget, Washington, DC 20503. On the overall agenda, contact Kevin F. Neyland, (202) 395-5897, at the above address.

SUPPLEMENTARY INFORMATION: In a document published in the Federal Register of September 29, 2011 (77 FR 60357), OMB published its semiannual regulatory agenda. That document is being withdrawn because the agenda was prematurely and improperly published.

Dated: October 11, 2011.
Kevin F. Neyland,
Deputy Administrator, Office of Information and Regulatory Affairs.

[FR Doc. 2011-27637 Filed 11-9-11; 8:45 am]

BILLING CODE P